DEPARTMENT OF EDUCATION

RIN 1855-ZA00

[CFDA No.: 84.330C]

Office of Innovation and Improvement—Advanced Placement Incentive (API) Program; Notice Inviting Applications for New Awards for Fiscal Year (FY) 2003

Purpose of Program: The API program, funded under section 1705 of Title I, Part G of the Elementary and Secondary Education Act of 1965 (ESEA), as amended by the No Child Left Behind Act of 2001 (NCLB), awards competitive grants designed to increase the successful participation of low-income students in pre-advanced placement and advanced placement courses and tests. By supporting increased access to and participation in pre-advanced placement and advanced placement courses and tests, the program provides greater opportunities for low-income students to achieve to high standards in English, mathematics, science, and other core subjects. Additional long-term goals of the program are to demonstrate that larger and more diverse groups of students can participate and succeed in advanced placement programs, and to increase the numbers of low-income and other disadvantaged students who receive baccalaureate and advanced degrees.

The API program provides resources that local educational agencies (LEAs) and other eligible applicants can use in pursuit of the objectives of the NCLB which aims for all elementary and secondary students to achieve to high standards. In particular, this program provides an opportunity for eligible entities to create new programs in schools identified for improvement, corrective action, or restructuring under Title I, Part A of the ESEA.

Eligible Applicants: (a) State educational agencies (SEAs); (b) LEAs, including charter schools that are considered LEAs under State law; and (c) national nonprofit educational entities with expertise in advanced placement services. In the case of an eligible entity that is an SEA, the SEA may use API grant funds to award subgrants to LEAs to enable those LEAs to carry out activities authorized under this program.

Applications Available: 5-16-03.

Notification of Intent to Apply for Funding: The Department will be able to develop a more efficient process for reviewing grant applications if it has a better understanding of the number of entities that intend to apply for funding under this competition. Therefore, the Secretary strongly encourages each potential applicant for the API program to notify the Department by e-mail that it intends to submit an application for funding. The notification of intent to apply for funding should be sent no later than June 16, 2003 to the following Internet address: madeline.baggett@ed.gov.

Applicants who fail to provide this e-mail notification may still apply for funding.

Deadline for Transmittal of Applications: 7-3-03.

Deadline for Intergovernmental Review: 9-1-03.

Estimated Available Funds: Approximately $10.7 million.

Estimated Range of Awards: $200,000 to $700,000 per year.

Estimated Average Size of Awards: $200,000—$450,000 per year.

Estimated Number of Awards: 22-42.

Note: These estimates are projections for the guidance of potential applicants. The Department is not bound by any estimates in this notice.

Project Period: Up to 36 months.

Page Limit: The application narrative (Part VII of the application package) is where you, the applicant, address the selection criteria that reviewers use to evaluate your application. You are encouraged to limit Part VII to the equivalent of no more than 50 pages, using the following standards:

• A “page” is 8.5″ x 11″ on one side only, with 1″ margins at the top, bottom, and both sides;

• Double space (no more than three lines per vertical inch) all text in the application narrative, including titles, headings, footnotes, quotations, references, and captions, as well as text in charts, tables, figures, and graphs; and

• Use a font that is either 12-point or larger or no smaller than 10 pitch (characters per inch).

Applicable Regulations and Statute: (a) Regulations. Education Department General Administrative Regulations (EDGAR) in 34 CFR Parts 74, 75, 77, 79, 80, 81, 82, 85, 86, 97, 98, and 99. (b) Statute. Title I, Part G of Elementary and Secondary Education Act of 1965 (ESEA), as amended the No Child Left Behind Act of 2001 (NCLB), 20 U.S.C. 6535-6537.

SUPPLEMENTARY INFORMATION: The API program promotes greater access to, and participation in, advanced placement courses and tests for low-income and other disadvantaged students. Covered programs include pre-advanced placement and advanced placement courses as well as the advanced placement tests administered by the College Board. The International Baccalaureate Organization courses and exams are also approved under the program. Other educational entities that provide comparable programs of rigorous academic courses and testing through which low-income students may earn college credit may request approval from the Secretary.

The Secretary encourages schools to offer more rigorous middle and high school curricula in English, mathematics, science, and other core subjects. The API program supports that effort and, thus, is an important component of the Department's commitment to ensuring that “no child is left behind”. In addition to improving academic achievement for all students, the program strives to raise expectations for low-income children. The development, enhancement, and expansion of advanced placement courses in all core disciplines is a key strategy for increasing the participation of students, especially low-income and other disadvantaged students, in advanced placement and other challenging courses.

Since the original authorization of the Department's Advanced Placement program in 1998, funding for the program has increased from $3 million to the current appropriation of $23 million. In May 2002, low-income students took 140,571 advanced placement tests administered by the College Board, a 25 percent increase compared to 2001. While the Department is encouraged by this dramatic increase, it is important to note that, in 2002, the College Board changed the way it collects the data, and part of the increase may reflect this change. In addition, even with significant gains, there is still a significant gap between the level of participation of low-income students in advanced placement courses and tests and the level of participation of students from more affluent backgrounds.

The API program supports activities that enable greater numbers of low-income and other disadvantaged students to benefit from advanced placement courses and exams (ultimately increasing the likelihood that these students will receive college degrees) through increased access to, and participation in, pre-advanced placement and advanced placement courses. Pre-advanced placement and advanced placement teachers in the schools served by the program may participate in sustained, high-quality professional development activities designed to:

(1) Improve teacher content area knowledge;

(2) Increase utilization of research-based classroom practices that foster student achievement for low-income students; and

(3) Strengthen the alignment of pre-advanced placement and advanced placement curricula through “vertical team training” and other strategies.

In accordance with section 1705(f) of the authorizing statute, applicants approved for funding under this program will, for each advanced placement subject supported by the grant, be required to submit to the Secretary annual reports on, among other things, the number of students served by the grantee who are taking an advanced placement course in that subject; the number of advanced placement tests in that subject taken by students served by the grantee; and the number of students served by the grantee scoring at different levels on advanced placement tests in that subject. In addition, grantees must submit disaggregated data (by race, ethnicity, sex, English proficiency status, and socio-economic status) on individuals taking advanced placement courses and tests.

Absolute Priority: We have chosen the elements of the absolute priority from the authorized activities and priorities specified in sections 1705(c) and (d) of the ESEA. To implement the absolute priority, the Secretary will fund under this competition only applications from eligible applicants that meet both elements of the absolute priority.

Under section 75.105(c)(3) of EDGAR, the Secretary is establishing an absolute priority for applications that—

(1) Demonstrate an intent to carry out activities that target schools, or LEAs operating schools, with a high concentration of low-income students (if the applicant is an LEA, propose to serve schools with a high concentration of low-income students); and

(2) Propose to develop, enhance, or expand pre-advanced placement courses, in conjunction with advanced placement courses, in English, mathematics, science, and other core academic areas at the middle or high school level. Effective pre-advanced placement programs should enable low-income students to enroll and succeed in advanced placement courses and tests in core academic areas. Proposals may include vertical teams training, high-quality professional development for pre-advanced placement and advanced placement teachers, and coordination of curriculum design and development between middle and high school teachers.

Notes

(1) Pre-advanced placement courses are intended to provide middle and high school students with the higher order thinking skills, content knowledge, and study habits necessary for successful participation in advanced placement courses. Applicants should explain why the courses supported by the proposed project qualify as pre-advanced placement or advanced placement.

(2) Applicants may submit free or reduced-price lunch data in order to verify that participating schools meet this priority. For the definitions of low-income individual (including a list of other types of data that may be used to verify low-income status) and high concentration of low-income students, see the Definitions section of this notice.

Allowable Activities

Within this absolute priority, eligible entities implement programs designed to expand access for low-income individuals to pre-advanced placement and advanced placement programs through activities such as:

(1) Teacher training;

(2) Pre-advanced placement course development;

(3) Coordination and articulation between grade levels to prepare students to enter and succeed in advanced placement courses;

(4) Purchase of books and supplies;

(5) Activities to increase the availability of, and participation in, on-line advanced placement courses; and

(6) Any other activity directly related to expanding access to and participation in pre-advanced placement and advanced placement programs, particularly for low-income individuals.

Note: Applicants approved for funding under this competition may be required to attend a two-day Project Directors' meeting in Washington, DC during the first year of the grant. The cost of attending this meeting may be paid from API program grant funds or State or local resources.

Selection Criteria: The Secretary will use the following selection criteria to evaluate applications under this competition. These selection criteria apply to the absolute priority and allowable activities only. The maximum score for all of the selection criteria is 100 points. The maximum score for each criterion is indicated in parenthesis with the criterion. The criteria are as follows:

(a) Significance (20 points). The Secretary considers the significance of the proposed project. In determining the significance of the proposed project, the Secretary considers the following factors:

(1) The likelihood that the proposed project will result in system changes or improvements that provide greater access to pre-advanced placement and advanced placement courses and highly-trained teachers for low-income and other disadvantaged students.

(2) The importance or magnitude of the results or outcomes likely to be attained by the proposed project, especially improvements in teaching and student achievement.

(b) Quality of the Project Design (20 points). The Secretary considers the quality of the project design of the proposed project. In determining the quality of the project design, the Secretary considers the following factors:

(1) The extent to which the proposed project represents an exceptional approach for meeting the objectives of the program and the priorities established for the competition.

(2) The extent to which the design of the proposed project is appropriate to, and will successfully address, the needs of the target population.

(c) Quality of Project Services (20 points). The Secretary considers the quality of project services to be provided by the proposed project. In determining the quality of the services to be provided, the Secretary considers the quality and sufficiency of strategies for ensuring equal access and treatment for eligible project participants based on race, color, national origin, gender, age, or disability. In addition, the Secretary considers the following factors:

(1) The extent to which the services to be provided by the proposed project reflect up-to-date knowledge from research and of effective practices.

(2) The extent to which the training or professional development services to be provided by the proposed project are of sufficient quality, intensity, and duration to lead to improvements in practice among the recipients of those services.

(d) Quality of Project Personnel (10 points). The Secretary considers the quality of the personnel who will carry out the proposed project. In determining the quality of project personnel, the Secretary considers the following factors:

(1) The qualifications, including relevant training and experience, of the project director and other key personnel;

(2) The qualifications, including relevant training and experience, of project consultants or subcontractors, if any.

(e) Adequacy of Resources (5 points). The Secretary considers the adequacy of resources. In determining the adequacy of resources for the proposed project, the Secretary considers the following factors:

(1) The adequacy of support, including facilities, equipment, supplies, and other resources, from the applicant organization.

(2) The extent to which the costs are reasonable in relation to the number of persons to be served and to the anticipated results and benefits.

(f) Quality of the Management Plan (10 points). The Secretary considers the quality of the management plan. In determining the quality of the management plan for the proposed project, the Secretary considers the following factors:

(1) The likelihood of the management plan to achieve the objectives of the proposed project on time and within budget, including clearly defined responsibilities, time lines, and milestones for accomplishing project tasks.

(2) The extent to which the time commitments of the project director and other key project personnel are appropriate and adequate to meet the objectives of the proposed project.

(g) Quality of the Project Evaluation (15 points). The Secretary considers the quality of the project evaluation. In determining the quality of the project evaluation, the Secretary considers the following factors:

(1) The extent to which the methods of evaluation include the use of objective performance measures that are clearly related to the intended outcomes of the project and will produce quantitative and qualitative data to the extent possible; and

(2) The extent to which the evaluation meets the reporting requirements of section 1705(f) of the authorizing statute.

Competitive Priorities: These priority points are in addition to any points the applicant earns under the selection criteria. The selection criteria will not be used to evaluate these priorities. The Secretary may select an application that meets a priority over an application of comparable merit that does not meet the priority. The maximum number of points an application may earn based on the priority points and the selection criteria is 145 points.

Statutory Priorities

In accordance with the requirements of section 1705(c) of the authorizing statute and section 75.105(c)(2)(i) of EDGAR, the Secretary will award applications a total of up to twenty-five (25) additional points for addressing the following statutory priorities:

(1) Up to twenty (20) points for demonstrating a pervasive need for the development of pre-advanced placement or advanced placement courses for middle or high schools where there are few or no advanced placement courses currently available; and

(2) Up to five (5) points for demonstrating one or more of the following:

• Involvement of business and community organizations in the activities assisted;

• Availability of matching funds from State, local, or other sources to pay for a portion of the cost of activities to be assisted; or

• Intent to carry out activities to increase the availability of, and participation in, on-line advanced placement courses.

Evaluation Priority

Under 34 CFR 75.105(c)(2)(i), the Secretary will award a total of up to twenty (20) additional priority points to applicants that propose to conduct evaluation activities designed to assess the effectiveness of this program in one or more areas. The project is designed to determine whether the program implemented produces meaningful effects on student achievement or teacher performance through a rigorous evaluation. The evaluation preferably uses an experimental design. For the API program, an evaluation using an experimental design is one where subjects at the school or district level are randomly assigned to receive the program being evaluated or to be in a control group that does not receive the program. Evaluations using an experimental design will receive up to twenty (20) points.

If random assignment is not feasible, the project may employ a quasi-experimental design with carefully matched comparison conditions. This alternative design attempts to approximate a randomly assigned control group by matching subjects (students, teachers, classrooms or schools) with non-participants possessing similar pre-program characteristics. Evaluations using a quasi-experimental design will receive up to fifteen (15) points.

Proposed evaluations that use neither experimental designs with random assignment nor quasi-experimental designs using matched comparison groups will receive no points under this competitive priority.

Data from reliable and valid measures of the intervention that the program intends to implement and of the outcomes that the program intends to effect should be collected before and after participation in the program or the comparison condition.

Points awarded under this priority will be determined by the quality of the proposed evaluation. In determining the quality of the evaluation, we will consider the extent to which the applicant presents a feasible, credible plan that includes:

(1) The type of design to be used (random assignment or matched comparison);

(2) Outcomes to be measured;

(3) A discussion of how schools or districts will be assigned to the program or matched for comparison with other schools or districts; and

(4) A proposed evaluator, preferably independent, with the necessary background and technical expertise to carry out the proposed evaluation.

Definitions

The following definitions and other provisions are taken from the API program authorizing statute, in Title I, Part G of the ESEA. They are repeated in this application notice for the convenience of the applicant.

As used in this section:

(a) The term advanced placement test means an advanced placement test administered by the College Board or approved by the Secretary.

Note: In addition to advanced placement tests administered by the College Board, the Department has approved advanced placement tests administered by the International Baccalaureate Organization. As part of the grant application process, applicants may request approval of tests from other educational entities that provide comparable programs of rigorous academic courses and testing through which students may earn college credit.

(b) The term high concentration of low-income students, used with respect to a school, means a school that serves a student population at least 40 percent or more of whom are low-income individuals.

(c) The term low-income individual means an individual who is determined by a State educational agency or local educational agency to be a child from a low-income family on the basis of data used by the Secretary to determine allocations under section 1124 of the ESEA, data on children eligible for free or reduced-price lunches under the National School Lunch Act, data on children in families receiving assistance under Part A of Title IV of the Social Security Act, or data on children eligible to receive medical assistance under the Medicaid program under title XIX of the Social Security Act, or through an alternate method that combines or extrapolates from those data.

Supplement, Not Supplant, Rule

Funds provided under this program must be used only to supplement and not supplant other non-Federal funds that are available to assist low-income individuals in paying advanced placement test fees.

Waiver of Proposed Rulemaking

In accordance with the Administrative Procedure Act (5 U.S.C. 553), it is the practice of the Secretary to offer interested parties the opportunity to comment on proposed rules that are not taken directly from the statute. Ordinarily, this practice would have applied to the rules in this notice. Section 437(d)(2) of the General Education Provisions Act (GEPA), however, exempts from this rulemaking requirement those rules where the Secretary determines that it will cause extreme hardship to the intended beneficiaries of the program affected by the regulations. The Secretary, in accordance with section 437(d)(2) of GEPA, has decided to forgo public comment with respect to the rules in this grant competition in order to ensure timely and high-quality awards. These rules will apply only to the FY 2003 grant competition.

For Applications Contact: Education Publications Center (ED Pubs), P.O. Box 1398, Jessup, MD 20794-1398. Telephone (toll free): 1-877-433-7827. FAX: (301) 470-1244. If you use a telecommunications device for the deaf (TDD) you may call (toll free): 1-877-576-7734.

You may also contact ED Pubs at its Web site: http://www.ed.gov/pbs/edpubs.html.

Or you may contact ED Pubs at its e-mail address: edpubs@inet.ed.gov.

If you request an application from ED Pubs, be sure to identify this competition as follows: CFDA number 84.330C.

FOR FURTHER INFORMATION CONTACT: Madeline E. Baggett, U.S. Department of Education, 400 Maryland Avenue, SW., room 3E228, Washington, DC 20202-6140. Telephone: (202) 260-2502 or via Internet: madeline.baggett@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting that person. However, the Department is not able to reproduce in an alternative format the standard forms included in the application package.

Electronic Access to this Document

You may view this document, as well as all other Department of Education documents published in the Federal Register, in text or Adobe Portable Document Format (PDF) on the Internet at the following site: http://www.ed.gov/legislation/FedRegister.

To use PDF, you must have Adobe Acrobat Reader, which is available free at this site. If you have questions about using PDF, call the U.S. Government Printing Office (GPO), toll free, at 1-888-293-6498; or in the Washington, DC area at (202) 512-1530.

Individuals with disabilities may obtain this document in an alternative format (e.g., Braille, large print, audiotape, or computer diskette) on request using the contact information provided under For Applications Contact.

Note: The official version of this document is the document published in the Federal Register. Free Internet access to the official edition of the Federal Register and the Code of Federal Regulations is available on GPO Access at: http://www.access.gpo.gov/nara/index.html.

Program Authority: 20 U.S.C. 6535-6537.

Dated: May 9, 2003.
Nina Rees,
Deputy Under Secretary for Innovation and Improvement.

[FR Doc. 03-12118 Filed 5-14-03; 8:45 am]

BILLING CODE 4000-01-P